DEPARTMENT OF THE INTERIOR

Bureau of Indian Affairs

Plan for the Use and Distribution of Judgment Funds Awarded to the Pueblo of San Ildefonso in Docket 660-87L

AGENCY: Bureau of Indian Affairs, Interior.

ACTION: Notice.

SUMMARY: Notice is hereby given that the plan for the use and distribution of the judgment funds awarded to the Pueblo of San Ildefonso v. U.S., Docket 660-87L, is effective as of March 10, 2009. The judgment fund was awarded by the United States Court of Federal Claims on June 10, 1991, and appropriated on August 14, 1991.

FOR FURTHER INFORMATION CONTACT: Iris A. Drew, Bureau of Indian Affairs, Division of Tribal Government Services, 1001 Indian School Road, NW., Albuquerque, New Mexico 87104. Telephone number: (505) 563-3530.

SUPPLEMENTARY INFORMATION: On September 2, 2008, the plan for the use and distribution of the funds was submitted to Congress pursuant to Section 137 of the Act of November 10, 2003, Public Law 108-108; 117 Stat. 1241, and the Indian Tribal Judgment Fund Act, 25 U.S.C. 1401 et seq. Receipt of the Plan by the House of Representatives and the Senate was recorded in the Congressional Record on September 16, 2008, and September 18, 2008, respectively. The plan became effective on March 10, 2009, because a joint resolution disapproving it was not enacted. The plan reads as follows:

Plan

For the Use and Distribution of Judgment Funds Awarded to the Pueblo of San Ildefonso in Docket No. 660-87L Before the United States Court of Federal Claims

The judgment funds appropriated August 14, 1991, in satisfaction of the award granted to the Pueblo de San Ildefonso in settlement of Docket 660-87L before the United States Court of Federal Claims, less attorney fees and litigation expenses, and including all interest and investment income accrued, and pursuant to Section 14 of the Pueblo de San lldefonso Claims Settlement Act of 2005 and the Indian Tribal Judgment Funds Use and Distribution Act, shall be as follows:

A. Management

All judgment funds, including accrued interest and investment income, shall be managed by the Pueblo de San Ildefonso upon approval of this Plan for Use and Distribution of Judgment Funds by the Secretary of the Interior. After approval, the Secretary shall disburse these judgment funds and accrued interest, which shall be reinvested, in accordance with future tribal council resolutions and applicable Federal Regulations.

B. Authorized Expenditures

Judgment funds shall be used or distributed for Governmental Purposes only. Governmental Purposes includes, but is not limited to, programs owned or operated by the Pueblo including social and economic development for the benefit of the Pueblo de San Ildefonso. The Tribal Council, pursuant to Tribal Council Resolution, may expend judgment funds, including accrued interest, for use for any tribal program, including land purchases, economic development, tribal loan repayments, or other tribal governmental purposes established for the social and economic welfare of the members of the Pueblo.

No authorized tribal program shall provide per capita or dividend payments to tribal members.

Dated: May 21, 2009.
George T. Skibine,
Deputy Assistant Secretary for Policy and Economic Development.

[FR Doc. E9-12635 Filed 5-29-09; 8:45 am]

BILLING CODE 4310-4J-P